DEPARTMENT OF TRANSPORTATION

Federal Railroad Administration

[Docket Number FRA-2010-0139]

Petition for Waiver of Compliance

In accordance with Part 211 of Title 49 Code of Federal Regulations (CFR), this document provides the public notice that by a document dated May 11, 2011, Fillmore & Western Railway Company (FWRY) has resubmitted a petition letter to the Federal Railroad Administration (FRA) requesting a waiver of compliance from certain provisions of the Federal railroad safety regulations contained at 49 CFR parts 215 and 224.

Previously, by a letter dated November 15, 2010, from FWRY to FRA, FWRY requested to withdraw its petition as announced in the Federal Register (Ref. Volume 75, No. 192, Tuesday, October 5, 2010, Pages 61562 and 61563) in the same docket as the current one, i.e. Docket Number: FRA-2010-0139.

Specifically, FWRY seeks a waiver of compliance from the Railroad Freight Car Safety Standards, 49 CFR 215.301, which requires stenciling or otherwise displaying the reporting marks and built date of freight cars; 49 CFR 215.303, which requires stenciling on restricted freight cars; and Reflectorization of Rail Freight Rolling Stock, 49 CFR 224.101, which requires the application of reflective materials for freight rolling stock. FWRY requests this relief for five freight cars: Tank Car #8803, Flat Car #8017, Box Car #2326, Box Car #16600, and Flat Car #680.

As information, FWRY also requests approval of continued inservice of the above-mentioned freight cars that are more than 50 years from their original construction dates.

Specifically, FWRY seeks permission to move the stenciling location of the reporting marks and built date from each side of the freight carbody (49 CFR 215.301(a) and (b)) to both ends of the car. To justify this request, FWRY stated that although FWRY is considered a general system railroad, these cars are not interchanged in or with the general system. These cars are not freight revenue cars, and are only used for tourist passengers, films, movies, props, and still photos. FWRY requests this waiver due to the fact that the movie and television companies and still photographers want the cars to be authentic in their antiquated and historic look, or to have them renamed, numbered, and painted to their particular themed set, film, movie, or still photo. FWRY has been known to renumber and repaint cars and engines two or three times a month to accommodate filming or still photo requests. Re-establishing the reporting marks and built date to the sides after each instance that they are removed is very costly. With the small amount of equipment that FWRY has, all of the train crew and staff are very familiar with each piece of equipment. FWRY does not transport any type of hazardous loads or freight. FWRY runs its trains at very low speeds, generally 10-15 mph.

To support its petition to seek relief from the stenciling (49 CFR 215.303) and reflectorization (49 CFR 224.101) requirements, FWRY states that the cars subject to this waiver are only used for tourist passengers, films, movies, props, and still photos. Although FWRY is considered a general system railroad, these subject cars are not interchanged in or with the general system, and are not freight revenue cars. FWRY asks for this waiver due to the fact that the movie and television companies and still photographers want the cars to be authentic in their antiquated and historic look.

A copy of the petition, as well as any written communications concerning the petition, is available for review online at http://www.regulations.gov and in person at the U.S. Department of Transportation's (DOT) Docket Operations Facility, 1200 New Jersey Ave., SE., W12-140, Washington, DC 20590. The Docket Operations Facility is open from 9 a.m. to 5 p.m., Monday through Friday, except Federal holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received by October 17, 2011 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on August 26, 2011.
Robert C. Lauby,
Deputy Associate Administrator for Regulatory and Legislative Operations.

[FR Doc. 2011-22320 Filed 8-30-11; 8:45 am]

BILLING CODE 4910-06-P